DEPARTMENT OF HEALTH AND HUMAN SERVICES

National Institutes of Health

National Advisory Council on Alcohol Abuse and Alcoholism, National Advisory Council on Drug Abuse, and National Cancer Advisory Board; Notice of Joint Meeting

Pursuant to section 10(a) of the Federal Advisory Committee Act, as amended (5 U.S.C. App.), notice is hereby given of a joint teleconference and Web cast meeting of the National Advisory Council on Alcohol Abuse and Alcoholism, National Advisory Council on Drug Abuse, and National Cancer Advisory Board. The meeting will be open to the public as indicated below.

Name of Committee: National Advisory Council on Alcohol Abuse and Alcoholism, National Advisory Council on Drug Abuse, and National Cancer Advisory Board.

Date: December 13, 2012.

Time: 11:30 a.m. to 1:00 p.m. EST.

Agenda: NIH report on the functional integration of substance use, abuse and addiction-related research and discussion with the NIH Principal Deputy Director and Members of NIAAA and NIDA Councils, and the NCAB.

Teleconference Line: 1-888-324-8014 (toll-free); Passcode: 4418818.

Webcast Site: https://webmeeting.nih.gov/suaa/.

Contact Persons: Abraham Bautista, Ph.D., Office of Extramural Activities, National Institute on Alcohol Abuse and Alcoholism, National Institutes of Health, 5635 Fishers Lane, RM 2085, Rockville, MD 20892, 301-443-9737, bautista@mail.nih.gov.

Teresa Levitin, Ph.D., Office of Extramural Affairs, National Institute on Drug Abuse, National Institutes of Health, 6001 Executive Blvd., RM 4243, Rockville, MD 20852, 301-443-2755, tlevitin@nida.nih.gov. Paulette S. Gray, Ph.D., Division of Extramural Activities, National Cancer Institute, National Institutes of Health, 6116 Executive Boulevard, 8th Floor, Rm. 8001, Bethesda, MD 20892, 301-496-5147, grayp@mail.nih.gov.

Any interested person may file written comments with the committee(s) by forwarding the statement to a Contact Person listed on this notice. The statement should include the name, address, telephone number and when applicable, the business or professional affiliation of the interested person.

Information will also be available on the Institute's/Center's home pages: http://www.niaaa.nih.gov/AboutNIAAA/AdvisoryCouncil/Pages/default.aspx, http://www.drugabuse.gov/about/organization/nacda/NACDAHome.html, and http://deainfo.nci.nih.gov/advisory/ncab/ncab.htm, as well as NIH's Feedback page: http://feedback.nih.gov, where an agenda and any additional information for the meeting will be posted when available.

(Catalogue of Federal Domestic Assistance Program Nos.: 93.271, Alcohol Research Career Development Awards for Scientists and Clinicians; 93.272, Alcohol National Research Service Awards for Research Training; 93.273, Alcohol Research Programs; 93.891, Alcohol Research Center Grants; 93.701, ARRA Related Biomedical Research and Research Support Awards, National Institutes of Health, HHS)

Dated: November 16, 2012.
Jennifer S. Spaeth,
Director, Office of Federal Advisory Committee Policy.

[FR Doc. 2012-28277 Filed 11-20-12; 8:45 am]

BILLING CODE 4140-01-P